NUCLEAR REGULATORY COMMISSION

[NRC-2015-0287]

Training and Qualification of Security Personnel at Nuclear Power Reactor Facilities

AGENCY: Nuclear Regulatory Commission.

ACTION: Regulatory guide, issuance.

SUMMARY: The U.S. Nuclear Regulatory Commission (NRC) is issuing Revision 1 of Regulatory Guide (RG) 5.75, “Training and Qualification of Security Personnel at Nuclear Power Reactor Facilities.” This RG updates training and qualification guidance that incorporates lessons learned and reflects changes that have been made in associated rules and guidance documents since the original publication of the guide. This guide describes approaches and methodologies that the NRC staff considers acceptable for the training and qualification of all personnel who are assigned duties and responsibilities required for the implementation of the Commission-approved security plans, licensee response strategies, and implementing procedures at nuclear power reactor facilities.

DATES: Revision 1 of RG 5.75 is available on March 19, 2021.

ADDRESSES: Please refer to Docket ID NRC-2015-0287 when contacting the NRC about the availability of information regarding this document. You may access publicly available information related to this document using any of the following methods:

• Federal Rulemaking website: Go to https://www.regulations.gov and search for Docket ID NRC-2015-0287. Address questions about Docket IDs in Regulations.gov to Stacy Schumann; telephone: 301-415-0624; email: Stacy.Schumann@nrc.gov. For technical questions, contact the individuals listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

Revision 1 to RG 5.75 and the regulatory analysis may be found in ADAMS under Accession Nos. ML17111A699 and ML14297A274 respectively.

Regulatory guides are not copyrighted, and the NRC's approval is not required to reproduce them.

FOR FURTHER INFORMATION CONTACT: Kris Jamgochian, Office of Nuclear Security and Incident Response, telephone: 301-287-3542; email: Kris.Jamgochian@nrc.gov or Mekonen Bayssie, Office of Nuclear Regulatory Research, telephone: 301-415-1699; email: Mekonen.Bayssie@nrc.gov. Both are staff members of the U.S. Nuclear Regulatory Commission, Washington, DC 20555-0001.

SUPPLEMENTARY INFORMATION:

I. Discussion

The NRC is issuing a revision to an existing guide in the NRC's “Regulatory Guide” series. This series was developed to describe and make available to the public information regarding methods that are acceptable to the NRC staff for implementing specific parts of the agency's regulations, techniques that the NRC staff uses in evaluating specific issues or postulated events, and data that the NRC staff needs in its review of applications for permits and licenses.

Revision 1 of RG 5.75 was issued with a temporary identification of Draft Regulatory Guide (DG), DG-5043. This RG clarifies guidance that licensees and applicants should use to select, train, equip, test, qualify, and re-qualify armed and unarmed security personnel, watchpersons, and members of the licensee staff that support the licensee's security organization to ensure that these individuals possess and maintain the knowledge, skills, and abilities required to carry out their assigned duties and responsibilities effectively. This revision clarifies the staff guidance for the training and qualification requirements delineated in Section VI of Appendix B to title 10 of the Code of Federal Regulations (10 CFR), Part 73 “Physical Protection of Plants and Materials.” The revised RG also updates training and qualification guidance that incorporates lessons learned and reflects changes that have been made in associated rules and guidance documents since the original publication of the guide.

In particular, this revision provides more comprehensive discussion of the objectives for training and qualifying licensee and contractor security personnel, as well as training and qualifying those personnel who support the licensee's security program but are not direct members of the licensee's security staff or contractors to the security organization. This revision also provides additional clarification on aspects of the training and qualification process that the staff has determined would be helpful for licensees in implementing their performance evaluation programs. This revision contains a broad discussion of tactical response drills and Force on Force exercises, including follow-on critiques, which has been added to ensure that licensees have ample guidance for effective and complete drill and exercise management, from planning through conclusion.

II. Additional Information

The NRC published a notice of availability of DG-5043 in the Federal Register on December 29, 2015 (80 FR 81376) for a 60-day public comment period. The public comment period ended on February 29, 2016. Public comments on DG-5043 and the NRC's responses to the public comments are available in ADAMS under Accession No. ML17111A698.

III. Congressional Review Act

This RG is a rule as defined in the Congressional Review Act (5 U.S.C. 801-808). However, the Office of Management and Budget has not found it to be a major rule as defined in the Congressional Review Act.

IV. Backfitting and Issue Finality

Revision 1 of RG 5.75 describes a method that the staff of the NRC considers acceptable for use by nuclear power plant licensees in meeting the requirements for training and qualification of security personnel as set forth in Section VI of Appendix B to 10 CFR part 73, “Physical Protection of Plants and Materials.” Issuance of this RG, if finalized, would not constitute backfitting as defined in 10 CFR 50.109 (the backfit rule) and would not otherwise be inconsistent with the issue finality provisions in 10 CFR part 52 “Licenses, Certifications, and Approvals for Nuclear Power Plants.” As discussed in the “Implementation” section of this RG, the NRC has no current intention to impose this guide, if finalized, on holders of current operating licenses or combined licenses.

This RG may be applied to applications for operating licenses and combined licenses docketed by the NRC as of the date of issuance of the final regulatory guide, as well as future applications submitted after the issuance of the regulatory guide. Such action would not constitute backfitting as defined in the backfit rule or be otherwise inconsistent with the applicable issue finality provision in 10 CFR part 52, inasmuch as such applicants or potential applicants are not entities within the scope of the backfit rule or the relevant issue finality provisions in Part 52. Neither Section 50.109 nor the issue finality provisions under 10 CFR part 52 with certain exceptions, was intended to apply to every NRC action that substantially changes the expectations of current and future applicants. The exceptions to the general principle are whenever an applicant references a Part 52 license (e.g., an early site permit) and/or NRC regulatory approval (e.g., a design certification rule, a standard design approval) with specified issue finality provisions. However, the scope of issue finality provided extends only to the matters resolved in the license or regulatory approval. Early site permits, design certification rules, and standard design approvals typically do not address or resolve compliance with operational programs such as the security personnel requirements in 10 CFR part 73. Therefore, no applicant referencing an early site permit, design certification rule, or standard design approval would be entities within the scope of the relevant issue finality provisions with respect to the security matters addressed in this draft regulatory guide.

Dated: March 16, 2021.
For the Nuclear Regulatory Commission.
Meraj Rahimi,
Chief, Regulatory Guidance and Generic Issues Branch, Division of Engineering, Office of Nuclear Regulatory Research.

[FR Doc. 2021-05731 Filed 3-18-21; 8:45 am]

BILLING CODE 7590-01-P